DEPARTMENT OF HOMELAND SECURITY

Coast Guard

33 CFR Part 117

[Docket No. USCG-2017-0510]

Drawbridge Operation Regulation; Sacramento River, Rio Vista, CA

AGENCY: Coast Guard, DHS.

ACTION: Notice of deviation from drawbridge regulation; modification.

SUMMARY: The Coast Guard has modified a temporary deviation from the operating schedule that governs the Rio Vista Drawbridge across Sacramento River, mile 12.8, at Rio Vista, CA. The modified deviation extends the period the bridge may open with one hour advance notice and is necessary to allow the bridge owner to make necessary emergency repairs to the bridge.

DATES: This modified deviation is effective without actual notice from July 5, 2017 through 4 a.m. on July 15, 2017. For the purposes of enforcement actual notice will be used from June 28, 2017 until July 5, 2017.

ADDRESSES: The docket for this deviation, [USCG-2017-0510], is available at http://www.regulations.gov. Type the docket number in the “SEARCH” box and click “SEARCH.” Click on Open Docket Folder on the line associated with this deviation.

FOR FURTHER INFORMATION CONTACT: If you have questions on this temporary deviation, call or email Carl T. Hausner, Chief, Bridge Section, Eleventh Coast Guard District; telephone 510-437-3516; email Carl.T.Hausner@uscg.mil.

SUPPLEMENTARY INFORMATION: On June 15, 2017, the Coast Guard published a temporary deviation entitled “Drawbridge Operation Regulation; Sacramento River, Rio Vista, California” in the Federal Register (82 FR 27423). That temporary deviation, from 7 p.m. on June 16, 2017 to 4 a.m. on July 1, 2017, allows the drawspan to open on one hour advance notice at three specified time periods. The bridge owner, California Department of Transportation, has requested a modification of the currently published deviation to extend from 4 a.m. on July 1, 2017 to 4 a.m. on July 15, 2017 in order to complete the necessary repairs to the bridge deck.

The Rio Vista Drawbridge, mile 12.8, across the Sacramento River, has a vertical clearance of 18 feet above Mean High Water in the closed-to-navigation position. In accordance with 33 CFR 117.5, the draw opens on signal. Navigation on the waterway is commercial, search and rescue, law enforcement, and recreational.

The drawspan will require a one hour advance notice at one specified period: From 6 p.m. on July 14, 2017 to 4 a.m. on July 15, 2017. A one hour advance notice will give enough time for the contractor to clear away equipment and workers before the drawspan can safely open for transiting vessels. Scaffolding will be installed below the bridge deck from July 1, 2017 through July 15, 2017, reducing the vertical clearance by 4 feet, and will extend from the west tower 48 feet into the navigational channel. This temporary deviation modification has been coordinated with the waterway users. No objections to the proposed temporary deviation modification were raised.

Vessels able to pass through the bridge in the closed position may do so at anytime. The bridge will be able to open for emergencies with one hour advance notice. There is no immediate alternate route for vessels to pass. The Coast Guard will also inform the users of the waterway through our Local and Broadcast Notices to Mariners of the change in operating schedule for the bridge so vessel operators can arrange their transits to minimize any impact caused by the temporary deviation.

In accordance with 33 CFR 117.35(e), the drawbridge must return to its regular operating schedule immediately at the end of the effective period of this temporary deviation. This deviation from the operating regulations is authorized under 33 CFR 117.35.

Dated: June 28, 2017.
C.T. Hausner,
District Bridge Chief, Eleventh Coast Guard District.

[FR Doc. 2017-14047 Filed 7-3-17; 8:45 am]

BILLING CODE 9110-04-P